DEPARTMENT OF ENERGY

Federal Energy Regulatory Commission

[Docket No. AD02-22-000]

Notice of Technical Conference and Agenda; Midwest Energy Infrastructure Conference

October 17, 2002.

As announced in the Notice of Conference issued on September 13, 2002, the Federal Energy Regulatory Commission (FERC) will hold a conference on November 13, 2002 to discuss issues regarding energy infrastructure in the midwestern states. These states include Ohio, West Virginia, Michigan, Indiana, Kentucky, Wisconsin, Illinois, Missouri, Minnesota, Iowa, North Dakota, South Dakota, Nebraska, Kansas, and Oklahoma. This half-day conference will begin at 1 p.m. and conclude at approximately 6 p.m., and will be held at the Sheraton Chicago Hotel and Towers, 301 East North Water Street, Chicago, Illinois (1-800-325-3535). All interested persons are invited to attend.

The conference will focus on the adequacy of the electric, gas and other energy infrastructure in the Midwest. The FERC Commissioners will attend, and the Governors and state utility commissioners of the midwestern states have been invited to participate. The goal is to identify the current state of infrastructure in the Midwest, present and future infrastructure needs, and the means for and barriers to fulfilling those needs. We look forward to an informative discussion of the issues to clarify how we can facilitate and enhance a comprehensive, collaborative approach to energy infrastructure development and reliability for the midwestern states. It is becoming increasingly clear that a well-functioning energy infrastructure is necessary to meet America's energy demands and achieve workable, competitive markets.

The conference Agenda is appended to this Notice. As indicated, the purpose of the conference is to discuss regional infrastructure issues among the panelists, and federal and state officials. It is not intended to deal with issues pending in individually docketed cases before the Commission, such as applications involving hydropower, natural gas certificates, or the formation of Regional Transmission Organizations (RTOs). Therefore, all participants are requested to address the agenda topics and avoid discussing the merits of individual proceedings.

Opportunities for Listening to and Obtaining Transcripts of the Conference

The Capital Connection will offer this meeting live via telephone and audio on the internet for a fee. There will not be live video coverage or videotapes of the conference. For more information about Capitol Connection's services, contact David Reininger or Julia Morelli (703-993-3100), or go to http://www.capitolconnection.org.

Audio tapes of the meeting will be available from VISCOM (703-715-7999).

Additionally, transcripts of the conference will be immediately available from Ace Reporting Company (202-347-3700 or 1-800-336-6646), for a fee. They will be available for the public on the Commission's FERRIS system two weeks after the conference.

A reminder to please register for the conference online on the Commission Web site at http://www.ferc.gov/calendar/courses-outreach/coursesoutreach.htm. Scroll down and click on “Midwest Energy Infrastructure Conference”. There is no registration fee.

Questions about the conference program should be directed to: Carol Connors, Office of External Affairs, Federal Energy Regulatory Commission, 888 First Street, NE., Washington, DC 20426, carol.connors@ferc.gov.

Linwood A. Watson, Jr.,
Deputy Secretary.

Federal Energy Regulatory Commission Midwest Energy Infrastructure Conference

[Docket No. AD02-22-000]

Conference Agenda

Sheraton Chicago Hotel and Towers 301 East North Water Street Chicago, Illinois November 13, 2002

I. Opening Remarks and Introductions—1 p.m. to 1:15 p.m.

Chairman Pat Wood, Commissioner Nora Mead Brownell, Commissioner William Massey and Commissioner Linda Breathitt

II. Overview of Current Energy Infrastructure 1:15 p.m. to 1:30 p.m.

• Jeff Wright, Office of Energy Projects, FERC

III. Forecasts for Future Energy Use and Economic Impacts of Energy—1:30 p.m. to 2 p.m.

• Rick Mattoon, Senior Economist, Federal Reserve Bank of Chicago

IV. Cross Border Issues/Future Energy Relations and Energy Transfer With Canada—2 p.m. to 3 p.m.

Roundtable discussion on infrastructure constraints and improvements needed in energy supply and transmission to and from our neighboring trading partner, Canada.

• Ga,tan Caron, Chief Operating Officer, National Energy Board—Canada

• Kelly Hunter, Market Access Officer, Export Power Marketing Department, Manitoba Hydro

• Dennis Prince, Vice President, Regulatory Strategy, Alliance Pipeline

• [To be announced]

V. Powering New Generation—3 p.m. to 4 p.m.

Roundtable discussion of infrastructure limitations in the Midwest in the delivery and production of natural gas, electricity and renewable energy (e.g., barriers to siting, construction, and investment).

• Jim Cleary, President, ANR Pipeline Company

• Jake Williams, Vice President, Generation Development, Peabody Energy

• Carl Holmes, Kansas State Representative

• Jim Torgerson, President, Midwest Independent System Operator (MISO)

Break—4 p.m. to 4:15 p.m.

VI. New Technology—4:15 p.m. to 5:15 p.m.

Roundtable discussion on promoting new technologies to ensure energy reliability.

• John Howe, Vice President, Electric Industry Affairs, American Superconductor

• Scott Castelaz, Vice President, Marketing and Corporate Development, Encorp

• Robert Schainker, Ph.D., EPRI

• Tracy Anderson, Business Development Manager, 3M

VII. Discussion by State, Federal, and Canadian Officials of Next Steps and Closing Remarks by FERC Commissioners—5:15 p.m. to 6 p.m.

• Susan Wefald, President, North Dakota Public Service Commission

• Ruth Kretschmer, Commissioner, Illinois Commerce Commission

• Diane Munns, Chairman, Iowa Utilities Board

• Jim Burg, Chairman, South Dakota Public Utilities Commission

• David Svanda, Commissioner, Michigan Public Service Commission

[FR Doc. 02-27051 Filed 10-24-02; 8:45 am]

BILLING CODE 6717-01-P